DEPARTMENT OF COMMERCE

National Oceanic and Atmospheric Administration

50 CFR Part 223

RIN 0648-XA984

Endangered and Threatened Species; Proposed Listing Determinations for Nassau Grouper; Public Hearing

AGENCY: National Marine Fisheries Service (NMFS), National Oceanic and Atmospheric Administration (NOAA), Commerce.

ACTION: Notice of public hearing.

SUMMARY: We (NMFS) will hold a public hearing in St. Thomas, U.S. Virgin Islands, in December 2014 for the purpose of accepting public comments on the proposal to list the Nassau grouper (Epinephelus striatus) as threatened under the Endangered Species Act of 1973, as amended (ESA).

DATES: The meeting will be held on December 9, 2014, at 7 p.m. Atlantic Standard Time.

ADDRESSES: The meeting will be held at the Marriott Frenchmans Reef Hotel, 5 Estate Bakkeroe, St. Thomas, U.S. Virgin Islands. Information about the proposed listing of the Nassau grouper under the ESA is available at: http://sero.nmfs.noaa.gov/protected_resources/listing_petitions/species_esa_consideration/index.html.

Comments, identified by NOAA-NMFS-2014-0101, may also be submitted by any of the following methods:

• Electronic Submissions: Submit all electronic comments via the Federal eRulemaking Portal. Go to www.regulations.gov/#!docketDetail;D=NOAA-NMFS-2014-0101, click the “Comment Now!” icon, complete the required fields, and enter or attach your comments.

• Facsimile (fax): 727-824-5309.

• Mail: NMFS, Southeast Regional Office, 263 13th Avenue South, St. Petersburg, FL 33701.

• Hand delivery: You may hand deliver written information to our office during normal business hours at the street address given above.

FOR FURTHER INFORMATION CONTACT: Jason Rueter, NMFS, Southeast Regional Office (727) 824-5350; or Lisa Manning, NMFS, Office of Protected Resources (301) 427-8466.

SUPPLEMENTARY INFORMATION:

Background

On September 2, 2014, we published a proposed rule to list the Nassau grouper (Epinephelus striatus) as threatened under the ESA (79 FR 51929). While the species still occupies its historical range, spawning aggregations have been reduced in size and number due to fishing pressure. The lack of adequate management measures to protect these aggregations increases the extinction risk of Nassau grouper. Based on these considerations, described in more detail in the proposed rule (79 FR 51929; September 2, 2014), we concluded that the Nassau grouper is not currently in danger of extinction throughout all or a significant portion of its range, but is likely to become so within the foreseeable future.

We are currently soliciting relevant information that may inform the final listing and designation of critical habitat. In particular we seek comments containing: (1) Information concerning the location(s) and status of any spawning aggregations of the species; and (2) Information concerning the threats to the species; and (3) Efforts being made to protect the species throughout its current range. See ADDRESSES section above for information on how to submit comments. The public comment period on the proposed rule is open until December 31, 2014.

Public Hearing

We will convene a public hearing to provide background information and accept public comments on the proposed listing of the Nassau grouper under the ESA. We will accept both oral and written comments regarding the proposed listing decision during the meeting.

Special Accommodations

The meeting is physically accessible to people with disabilities. Requests for sign language interpretation or other auxiliary aids should be directed to Jason Reuter, (727) 824-5350, at least 5 working days prior to the meeting date.

Authority: 16 U.S.C. 1531 et seq.

Dated: November 17, 2014.
Donna S. Wieting,
Director, Office of Protected Resources, National Marine Fisheries Service.

[FR Doc. 2014-27651 Filed 11-20-14; 8:45 am]

BILLING CODE 3510-22-P